DEPARTMENT OF HEALTH AND HUMAN SERVICES

Health Resources and Services Administration

Notice of Senior Executive Service Performance Review Board Membership

The Health Resources and Services Administration (HRSA) announces the appointment of members to the HRSA Senior Executive Service (SES) Performance Review Board (PRB). This action is being taken in accordance with Title 5, U.S.C., Section 4314(c)(4) of the Civil Service Reform Act of 1978, which requires members of performance review boards to be published in the Federal Register.

The function of the PRB is to ensure consistency, stability and objectivity in SES performance appraisals, and to make recommendations to the Administrator, HRSA, relating to the performance of senior executives in the Agency.

The following persons will serve on the HRSA SES Performance Review Board:

Thomas G. Morford, Neil Sampson, James J. Corrigan, Katherine M. Marconi, Mary J. Horner, Douglas Morgan, Patricia L. Mackey, Catherine A. Flickinger, Merle G. McPherson, William D. Hobson, Marcia K. Brand, Peter C. van Dyck, James Macrae, Jon L. Nelson, Denise H. Geolot, Wayne C. Richey, Sharon Holston.

For further information about the HRSA Performance Review Board, contact Ms. Wendy Ponton, HRSA Office of Human Resources and Development, 5600 Fishers Lane, Room 14A43, Rockville, Maryland 20857.

Dated: August 24, 2001.
Elizabeth M. Duke,
Acting Administrator, Health Resources and Services Administration.

[FR Doc. 01-22578 Filed 9-7-01; 8:45 am]

BILLING CODE 4160-15-P